DEPARTMENT OF COMMERCE

National Oceanic and Atmospheric Administration

50 CFR Part 600

[Docket No. 160908833-7999-01]

RIN 0648-BG34

Requirements of the Vessel Monitoring System Type-Approval; Reopening of Public Comment Period

AGENCY: National Marine Fisheries Service (NMFS), National Oceanic and Atmospheric Administration (NOAA), Commerce.

ACTION: Proposed rule; reopening of public comment period.

SUMMARY: The National Marine Fisheries Service is reopening the public comment period on the proposed rule on requirements of the Vessel Monitoring System Type-Approval that published on December 5, 2017. The comment period ended on January 4, 2018. NMFS did not receive any comments on the original proposed rule and has decided to re-open the comment period for 30 days to provide additional opportunity for informed public comment.

DATES: The deadline for comments on the proposed rule published at 82 FR 57419 has been reopened from February 27, 2018 to March 29, 2018.

ADDRESSES: You may submit comments on the proposed rule, as published on December 5, 2017 (82 FR 57419), identified by “NOAA-HQ-2017-0141” by any of the following methods:

• Electronic Submission: Submit all electronic public comments via the Federal e-Rulemaking Portal. Go to http://www.regulations.gov/#!docketDetail;D=NOAA-HQ-2017-0141, click the “Comment Now!” icon, complete the required fields, and enter or attach your comments.

• Mail: Send written comments to Kelly Spalding, 1315 East West Highway, Room 3207, Silver Spring, MD 20910.

Instructions: Comments sent by any other method, to any other address or individual, or received after the end of the comment period, may not be considered by NMFS. All comments received are a part of the public record and will generally be posted for public viewing on www.regulations.gov without change. All personally identifiable information (e.g.; name, address, etc.), confidential business information, or otherwise sensitive information submitted voluntarily by the sender will be publicly accessible. NMFS will accept anonymous comments (enter “N/A” in the required fields if you wish to remain anonymous).

FOR FURTHER INFORMATION CONTACT: Kelly Spalding, Vessel Monitoring System Program Manager, Headquarters: 301-427-8269 or Kelly.spalding@noaa.gov.

SUPPLEMENTARY INFORMATION:

Background

On December 5, 2017, NMFS published in the Federal Register (82 FR 57419) a proposed rule on NMFS's proposed amendment to remove two sections of 50 CFR part 600, subpart Q, that require VMS type-approval holders (VMS vendors) to periodically renew their type-approvals. Currently, § 600.1512 of the VMS type approval regulations provides that type-approvals are valid for three years from the date on which NMFS publishes a notice in the Federal Register of the approval. Section 600.1513 requires that prior to the expiration of the three-year type-approval period, the VMS vendor must comply with the procedure set out for type-approval renewal. NMFS has found that the renewal process is unnecessary, has cost fishermen and approved VMS vendors additional time and expense, and has imposed unnecessary cost on the government and is therefore proposing to remove the renewal requirement from 50 CFR 600, Subpart Q. NMFS refers the reader to the December 5, 2017 proposed rule (82 FR 57419) for background information concerning the proposed rule as this notice does not repeat the information contained therein.

Public Comment Reopening

NMFS will re-open the comment period for 30 days to provide additional opportunity for informed public comment.

Authority: 16 U.S.C. 1801 et seq.

Dated: February 22, 2018.
Samuel D. Rauch III,
Deputy Assistant Administrator for Regulatory Programs, National Marine Fisheries Service.

[FR Doc. 2018-03945 Filed 2-26-18; 8:45 am]

BILLING CODE 3510-22-P